INTERNATIONAL TRADE COMMISSION

[USITC SE-10-012]

Sunshine Act Meeting Notice

Agency Holding the Meeting: United States International Trade Commission.

Time and Date: April 29, 2010 at 9:30 a.m.

Place: Room 101, 500 E Street SW., Washington, DC 20436. Telephone: (202) 205-2000.

Status: Open to the public.

Matters to be considered:

1. Agenda for future meetings: None.

2. Minutes.

3. Ratification List.

4. Inv. Nos. 701-TA-437 and 731-TA-1060-1061 (Review) (Carbazole Violet Pigment 23 from China and India)—briefing and vote. (The Commission is currently scheduled to transmit its determination and Commissioners' opinions to the Secretary of Commerce on or before May 10, 2010.)

5. Outstanding action jackets: None.

In accordance with Commission policy, subject matter listed above, not disposed of at the scheduled meeting, may be carried over to the agenda of the following meeting.

Issued: April 22, 2010.
By order of the Commission.
William R. Bishop,
Hearings and Meetings Coordinator.

[FR Doc. 2010-9770 Filed 4-22-10; 4:15 pm]

BILLING CODE 7020-02-P